DEPARTMENT OF COMMERCE

National Oceanic and Atmospheric Administration

[I.D. 110904I]

Magnuson-Stevens Act Provisions; General Provisions for Domestic Fisheries; Application for Exempted Fishing Permits

AGENCY: National Marine Fisheries Service (NMFS), National Oceanic and Atmospheric Administration (NOAA), Commerce.

ACTION: Notification of a proposal for a permit to conduct experimental fishing; request for comments.

SUMMARY: The Assistant Regional Administrator for Sustainable Fisheries, Northeast Region, NMFS (Assistant Regional Administrator) has made a preliminary determination that the subject Exempted Fishing Permit (EFP) application contains all the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow three vessels to conduct fishing operations that are otherwise restricted by the regulations governing the fisheries of the Northeastern United States. The EFP would allow for exemptions from the NE multispecies closed area restrictions and the NE multispecies minimum fish size requirements. The applicant proposes to conduct a study of an experimental haddock separator trawl, a bycatch reduction device, in order to examine the effectiveness of this type of gear at reducing the catch of Atlantic cod, and other similarly behaving groundfish, when targeting haddock. The EFP would allow these exemptions for three commercial vessels for a combined total of 50 days at sea. All experimental work would be monitored by Gulf of Maine Research Institute (GMRI) personnel. Regulations under the Magnuson-Stevens Fishery Conservation and Management Act require publication of this notification to provide interested parties the opportunity to comment on applications for proposed EFPs.

DATES: Comments must be received on or before December 2, 2004.

ADDRESSES: Comments on this notice may be submitted by e-mail. The mailbox address for providing e-mail comments is DA676@noaa.gov. Include in the subject line of the e-mail comment the following document identifier: “Comments on GMRI EFP Proposal for Haddock Separator Trawl Study (DA-676).” Written comments should be sent to Patricia A. Kurkul, Regional Administrator, NMFS, Northeast Regional Office, 1 Blackburn Drive, Gloucester, MA 01930. Mark the outside of the envelope “Comments on GMRI EFP Proposal for Haddock Separator Trawl Study (DA-676).” Comments may also be sent via fax to (978) 281-9135.

FOR FURTHER INFORMATION CONTACT: Peter Cooper, Fishery Management Specialist, phone: 978-281-9122, fax: 978-281-9135.

SUPPLEMENTARY INFORMATION: An application for an EFP was submitted by GMRI on August 26, 2004. The EFP would exempt three federally permitted commercial fishing vessels from the following requirements in the FMP: NE multispecies closed area restrictions specified at §§ 648.81(a) and 648.81(b) to provide an optimum mixture of cod and haddock for testing the experimental gear; and the NE multispecies minimum fish size requirements specified at § 648.83(a) in order to allow weighing and measuring of the entire catch.

The goal of this study is to assess the selectivity of a bycatch reduction device in Closed Area (CA) I and CA II of the NE groundfish fishery. Three factors are proposed to be examined in this study: (1) Net Selectivity - examination of the catch composition in the experimental net; (2) Environmental Factors - air and water temperature, wind, sea state, and weather data would be collected at every station; and (3) Seasonal Variation - the study would be conducted over 10 months to determine if there are any seasonal differences in catch or fish behavior. The specific trawl design to be tested is referred to as a haddock separator trawl, which consists of a separation panel comprised of 6.5-inch (16.5-cm) diamond mesh integrated horizontally into a conventional trawl net designed with 6.5-inch (16.5-cm) mesh in the fishing circle and 6.5-inch (16.5-cm) mesh in the codend. The codend would be further modified to create an upper and lower codend.

The study would be conducted from November 2004 through February 2005, and from May 2005 through October 2005. Separator trawl gear testing would take place aboard three different fishing vessels totaling 220, 20-minute trawls conducted over 50 days at sea. All of the trawls are expected to take place inside portions of CA I and CA II. The proposers are requesting access to CA II only if the Eastern U.S./Canada Haddock Special Access Program (SAP) Pilot Program that is proposed in Framework 40-A to the FMP is not approved. The areas to be trawled are within 19 defined 5-square-nautical mile areas, all at least partially within the central portion of CA I, the area that lies outside of the CA I Habitat Closure Area (HCA); and within three defined 5-square-nautical mile areas, all at least partially within the Eastern U.S./Canada Haddock SAP Pilot Program that is proposed in Framework 40-A to the FMP. One trawl per month would be randomly conducted in each cell. Tows in cells that partially overlap the HCA in CA I and CA II would be conducted only in areas of the cells that are not within the HCA. All fish retained by the upper and lower codends would be counted, weighed, and measured. All legal catch would be landed and sold, consistent with the current daily and trip possession and landing limits. Current regulations restrict vessels fishing on Georges Bank to landing no more than 1,000 lb (454 kg) of cod per day-at-sea (DAS), up to a maximum of 10,000 lb (4,536 kg) per trip, and no more than 3,000 lb (1,361 kg) of haddock per DAS, up to a maximum of 30,000 lb (13,608 kg) per trip from May 1 to September 30; and no more than 5,000 lb (2,268 kg), up to a maximum of 50,000 lb (22,680 kg) per trip from October 1 to April 30. Undersized fish would be returned to the sea as quickly as possible after measurement. The participating vessels would be required to report all landings in their Vessel Trip Reports.

The target fishery is the groundfish mixed-species fishery; the target species is haddock. Estimates of the total amount of the primary species that are expected to be caught under this EFP are: 210,000 lb (95,254 kg) of haddock; 21,000 lb (9,525 kg) of Atlantic cod; 250 lb (113 kg) of pollock; and 250 lb (113 kg) yellowtail flounder. Other commercially important fish commonly found in the groundfish mixed-species fishery are expected to be caught incidentally. The incidental catch is expected to be comprised of American plaice, monkfish, skates, spiny dogfish, white hake, winter flounder, and witch flounder.

The applicant is preparing an Environmental Assessment (EA) that will analyze the impacts of the proposed experimental fishery on the human environment. This EA will examine whether the proposed activities are consistent with the goals and objectives of the FMP, whether they would be detrimental to the well-being of any stocks of fish harvested, and whether they would have any significant environmental impacts. The EA will also examine whether the proposed experimental fishery would be detrimental to essential fish habitat, marine mammals, or protected species.

Authority: 16 U.S.C. 1801 et seq.

Dated: November 10, 2004.
Alan D. Risenhoover,
Acting Director, Office of Sustainable Fisheries, National Marine Fisheries Service.

[FR Doc. E4-3190 Filed 11-16-04; 8:45 am]

BILLING CODE 3510-08-S